NATIONAL FOUNDATION ON THE ARTS AND THE HUMANITIES

Institute of Museum and Library Services

76th Committee Meeting of the President's Committee on the Arts and the Humanities

AGENCY: President's Committee on The Arts and the Humanities, Institute of Museum and Library Services (IMLS).

ACTION: Notice of meeting.

SUMMARY: Pursuant to the Federal Advisory Committee Act, notice is hereby given that the President's Committee on the Arts and the Humanities will meet to consider a subcommittee proposal.

DATES AND TIME: The meeting will be held virtually on July 11, 2024 at 3:00 p.m. ET.

PLACE: The meeting will convene in a virtual format.

FOR FURTHER INFORMATION CONTACT: Jasmine Jennings, Assistant General Counsel and Alternate Designated Federal Officer, Institute of Museum and Library Services, Suite 4000, 955 L'Enfant Plaza North SW, Washington, DC 20024; (202) 653-4653; jjennings@imls.gov.

SUPPLEMENTARY INFORMATION: The President's Committee on the Arts and the Humanities is meeting pursuant Executive Order 14084 and the Federal Advisory Committee Act (FACA), as amended, 5 U.S.C. App. The 76th Meeting of the President's Committee on the Arts and Humanities will convene on July 11, 2024, at 3:00 p.m. ET. This meeting will be open to the public.

Agenda: To review and consider a subcommittee proposal regarding a campaign to combat the epidemic of loneliness and isolation identified by United States Surgeon General Dr. Vivek Murthy.

Further Information: On July 11, 2024, at 3:00pm ET the Committee will meet to deliberate on a recommendation for agency action. Any interested persons may attend as observers, subject to limited seating availability. Individuals wishing to attend are advised to contact Alexandra Piper of the Institute of Museum and Library Services seven (7) working days in advance of the July 11, 2024 meeting at apiper@imls.gov or write to the Committee at info@pcah.gov, 955 L'Enfant Plaza SW, Suite 4000, Washington, DC 20024.

Dated: June 25, 2024.
Brianna Ingram,
Paralegal Specialist.

[FR Doc. 2024-14278 Filed 6-27-24; 8:45 am]

BILLING CODE 7036-01-P